CORPORATION FOR NATIONAL AND COMMUNITY SERVICE

Revision of Currently Approved Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9:00 a.m. and 4:30 p.m. Eastern time, Monday through Friday.

Currently, the Corporation is soliciting comments concerning the revision of its AmeriCorps National Referral Card (OMB Control Number 3045-0004, with an expiration date of 8/31/2000). Copies of the information collection request can be obtained by contacting the office listed below in the ADDRESSES section of this notice.

DATES: Written comments must be submitted to the office listed in the ADDRESSES section by July 24, 2000.

ADDRESSES: Send comments to the Corporation for National and Community Service, Attn: Noel McCaman, Director, AmeriCorps Recruitment Office, 1201 New York Avenue, NW., Suite 8711, Washington, DC 20525.

FOR FURTHER INFORMATION CONTACT: Noel McCaman, (202) 606-5000, ext. 443, or by e-mail at NMccaman@cns.gov.

SUPPLEMENTARY INFORMATION:

Comment Request

The Corporation is particularly interested in comments which:

• Evaluate whether the proposed collection of information is necessary for the proper performance of the functions of the Corporation, including whether the information will have practical utility;

• Evaluate the accuracy of the agency?s estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Background

The AmeriCorps National Referral Card is submitted by potential AmeriCorps members to the Corporation for National Service for input into a national recruitment referral database and the information provided is distributed to approved AmeriCorps programs. The programs then contact individuals who have completed the form and ask them to formally apply for AmeriCorps member positions.

Current Action

The Corporation seeks to revise the current AmeriCorps National Referral Card in order to determine:

(1) Citizenship or if applicant is a lawful permanent resident alien of the United States (a statutory requirement for participation in AmeriCorps);

(2) Knowledge of foreign languages. (The current card asks only about Spanish language skills);

(3) If the individual is interested in serving in a summer program; and

(4) The geographic area(s) in which the individual would prefer to serve.

Type of Review: Revision of a currently approved collection.

Agency: Corporation for National and Community Service.

Title: AmeriCorps National Referral Card.

OMB Number: 3045-0004.

Agency Number: None.

Affected Public: Individuals and households.

Total Respondents: 100,000 (50,000 through the Corporation's 1-800 number, and 50,000 through the Corporation's website).

Frequency: One response per individual (optional collection).

Average Time Per Response: 3 minutes.

Estimated Total Burden Hours: 5,000 hours.

Total Burden Cost (capital/startup): None.

Total Burden Cost (operating/maintenance): $42,900—(1-800 number costs and $0.00 for the website).

Comments submitted in response to this notice will be summarized and/or included in the request for Office of Management and Budget approval of the information collection request; they will also become a matter of public record.

Dated: May 19, 2000.
Noel V. McCaman,
Director of AmeriCorps Recruitment, Corporation for National and Community Service.

[FR Doc. 00-13082 Filed 5-23-00; 8:45 am]

BILLING CODE 6050-28-P